COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and a service to the Procurement List that will be furnished by nonprofit agencies employing persons who are blind or have other severe disabilities.

Comments Must Be Received on or Before: February 19, 2017.

ADDRESSES: Committee for Purchase From People Who Are Blind or Severely Disabled, 1401 S. Clark Street, Suite 715, Arlington, Virginia 22202-4149.

FOR FURTHER INFORMATION OR TO SUBMIT COMMENTS CONTACT: Amy B. Jensen, Telephone: (703) 603-2132, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to provide the products and service listed below from nonprofit agencies employing persons who are blind or have other severe disabilities.

The following products and service are proposed for addition to the Procurement List for production by the nonprofit agencies listed:

Products

NSN(s)—Product Name(s): 6515-01-656-6191—Tourniquet, Tactical Mechanical

Mandatory Source(s) of Supply: Alphapointe, Kansas City, MO

Mandatory for: 100% of the requirements of the Department of Defense

Contracting Activity: Defense Logistics Agency Troop Support

Distribution: C-List

NSN(s)—Product Name(s):

MR 1172—Sweeper Set, Wet and Dry

MR 1173—Refill, Sweeper Set, Dry Cloths, 16 Count

MR 1174—Refill, Sweeper Set, Dry Cloths, 30 Count

MR 1175—Refill, Sweeper Set, Wet Cloths, 24 Count

Mandatory Source(s) of Supply: LC Industries, Durham, NC

Mandatory for: The requirements of military commissaries and exchanges in accordance with the Code of Federal Regulations, Chapter 51, 51-6.4

Contracting Activity: Defense Commissary Agency

Distribution: C-List

Service

Service Type: Transcription Service

Mandatory Source(s) of Supply: Lighthouse for the Blind of Houston, Houston, TX

Mandatory for: US Navy, Office of the Inspector General, SPAWARSYSCEN ATLANTIC CHARLESTON, North Charleston, SC

Contracting Activity: US Navy SPAWARSYSCEN ATLANTIC CHARLESTON North Charleston, SC

Patricia Briscoe,
Deputy Director, Business Operations Pricing and Information Management.

[FR Doc. 2017-01399 Filed 1-19-17; 8:45 am]

BILLING CODE 6353-01-P